DEPARTMENT OF HOMELAND SECURITY

Transportation Security Administration

[Docket No. TSA-2020-0001]

Public Meeting and Extension of Comment Period on Request for Information: Air Cargo Security Options To Mitigate Costs of Compliance With International Security Requirements

AGENCY: Transportation Security Administration, DHS.

ACTION: Notice of public meeting and extension of comment period.

SUMMARY: On April 10, 2020, TSA published a request for information (RFI) specifically requesting information from the air cargo industry (including manufacturers, shippers, suppliers, warehouses, e-commerce fulfillment centers, third-party logistics providers, and air carriers) relating to compliance with international security standards for the transport of air cargo by commercial aircraft operators (85 FR 20234). In advance of the closing date for comments submitted in response to the RFI, TSA will hold a public meeting on July 29, 2020, to answer questions regarding the international standards discussed in the RFI and to provide an additional forum for comments by stakeholders and other interested persons regarding the issues identified in the RFI. In light of the current COVID-19 public health crisis, the public meeting will be virtual. TSA is also extending the comment period for the RFI to provide an additional period for comments to be submitted after the public meeting.

DATES:

Virtual public meeting: The virtual public meeting will be on July 29, 2020, via telecom, beginning at 10:00 a.m. (EDT).

Comments on request for information: The comment period on the RFI is extended from July 9, 2020, to August 27, 2020.

ADDRESSES: To access the public meeting, interested persons should contact the individual in the FOR FURTHER INFORMATION CONTACT section to receive the telephone number and participant code. Participants should call 2-7 minutes in advance to avoid overloading the phone servers. Persons unable to join public meeting may submit comments to the RFI published on April 10, 2020 (85 FR 20234).

FOR FURTHER INFORMATION CONTACT: Thomas Friedman, Transportation Security Administration, 601 South 12th Street, Arlington, VA 20598-6028; telephone (571) 227-3555 OR (202) 236-3786; email Thomas.Friedman@tsa.dhs.gov OR Air Cargo Branch, TSA at the above address.

SUPPLEMENTARY INFORMATION:

Availability of Committee Documents

You may obtain an electronic copy of the record for the public meeting or other submissions related to this action by using the internet through one of the following methods—

(1) Search the electronic Federal Docket Management System (FDMS) web page at http://www.regulations.gov; or

(2) Access the Government Publishing Office's web page at http://www.gpo.gov/fdsys/browse/collection.action?collectionCode=FR to view the daily published Federal Register edition; or accessing the “Search the Federal Register by Citation” in the “Related Resources” column on the left, if you need to do a Simple or Advanced search for information, such as a type of document that crosses multiple agencies or dates.

In addition, copies are available by writing or calling the individual in the FOR FURTHER INFORMATION CONTACT section. Make sure to identify the docket number of this action.

Comments Invited

TSA invites interested persons to participate in this public meeting by participating in the telecom, as listed above. Individuals unable to participate in the public meeting may submit written comments, data, or views by August 27, 2020, following instructions provided in the RFI published on April 10, 2020. See 85 FR 20234.

Handling of Confidential or Proprietary Information and Sensitive Security Information (SSI) Submitted in Public Comments

Whether participating in the public meeting or submitting comments to the docket, do not submit comments or provide information that includes trade secrets, confidential commercial or financial information, or SSI. Please submit such comments separately from other comments on the action. Comments containing this type of information should be appropriately marked as containing such information and submitted by mail to the address listed in FOR FURTHER INFORMATION CONTACT section.

TSA will not place comments containing SSI in the public docket and will handle them in accordance with applicable safeguards and restrictions on access. TSA will hold documents containing SSI, confidential business information, or trade secrets in a separate file to which the public does not have access, and place a note in the public docket explaining that commenters have submitted such documents. TSA may include a redacted version of the comment in the public docket. If an individual requests to examine or copy information that is not in the public docket, TSA will treat it as any other request under the Freedom of Information Act (FOIA) (5 U.S.C. 552) and the Department of Homeland Security's (DHS') FOIA regulation found in 6 CFR part 5.

Reviewing Comments in the Docket

Please be aware that anyone is able to search the electronic form of all comments in any of our dockets and a summary of the meeting by the name of the individual who submitted the comment, participated in the public meeting, or signed the comment (if an association, business, labor union, etc., submitted the comment). You may review the applicable Privacy Act Statement published in the Federal Register on April 11, 2000 (65 FR 19477) and modified on January 17, 2008 (73 FR 3316).

You may review TSA's electronic public docket on the internet at http://www.regulations.gov. In addition, DOT's Docket Management Facility provides a physical facility, staff, equipment, and assistance to the public. To obtain assistance or to review comments in TSA's public docket, you may visit this facility between 9:00 a.m. and 5:00 p.m., Monday through Friday, excluding legal holidays, or call (202) 366-9826. This docket operations facility is located in the West Building Ground Floor, Room W12-140 at 1200 New Jersey Avenue SE, Washington, DC 20590.

Background

On April 10, 2020, TSA published a Request for Information: Air Cargo Security Options to Mitigate Costs of Compliance with International Security Requirements. See 85 FR 20234. The RFI requests information from the public, specifically the air cargo industry, relating to compliance with international security standards for the transport of air cargo by commercial aircraft operators. Effective June 30, 2021, international standards require that all international air cargo carried by commercial aircraft operators (passenger and all-cargo) be either screened or be received from another TSA-regulated entity that has applied security controls and/or screened the cargo. TSA is seeking information regarding options to reduce the burden on U.S. and foreign all-cargo aircraft operators in complying with the international standard, such as security controls implemented throughout the supply chain that provide a level of security commensurate with the screening of cargo before transport. Because TSA does not expect these standards to require changes to current procedures for cargo transported on passenger aircraft, this RFI is focused only on all-cargo operations.

Specific Issues for Discussion

There are several areas in particular in which TSA seeks information and comment from the industry at the public meeting; these specific issues are identified in the RFI. See 85 FR at 20237-20238. These key issues are intended to help focus public comments on subjects that TSA must explore in order to complete its review of potential frameworks. The comments at the meeting need not be limited to these issues.

Participation at the Meeting

The meeting is expected to begin at 10:00 a.m. and end by 12:00 p.m. (EDT). Following an introduction by TSA, members of the public will be invited to ask clarifying questions or present their views.

Individuals may address statements, questions, comments during the virtual meeting's specified “open floor” times, in the order they present themselves to the moderator. To accommodate as many questions as possible, the amount of time allocated to each speaker may be limited by TSA.

Public Meeting Procedures

TSA will use the following procedures to facilitate the meeting:

(1) There will be no admission fee or other charge to attend or to participate in the meeting. The meeting may adjourn early if scheduled speakers complete their statements or questions in less time than is scheduled for the meeting and there are no remaining questions from meeting participants.

(2) An individual, whether speaking in a personal or a representative capacity on behalf of an organization, will be limited to a 5-minute statement and scheduled on a first-come, first-served basis.

(3) Any speaker prevented by time constraints from speaking will be encouraged to submit written remarks to the docket, which will be made part of the record.

(4) For information on services for individuals with disabilities or to request assistance at the meeting, please contact the person listed in the FOR FURTHER INFORMATION CONTACT section above before July 20, 2020.

(5) Representatives of TSA will preside over the meeting.

(6) The meeting will be recorded by a court reporter. TSA will provide a summary of the meeting and list of participants in the docket for this action. Any person who is interested in purchasing a copy of the transcript should contact the court reporter directly.

(7) Statements made by TSA representatives are intended to facilitate discussion of the issues or to clarify issues. Any statement made during the meeting by a TSA representative is not intended to be, and should not be construed as, TSA's official position.

(8) The meeting is designed to invite public views and gather additional information. No individual will be subject to cross-examination by any other participant; however, TSA representatives may ask questions to clarify a statement.

Stacey Fitzmaurice,
Executive Assistant Administrator, Operations Support, Transportation Security Administration.

[FR Doc. 2020-13580 Filed 6-23-20; 8:45 am]

BILLING CODE 9110-05-P